DEPARTMENT OF COMMERCE

National Oceanic and Atmospheric Administration

Hydrographic Services Review Panel Meeting

AGENCY: National Ocean Service, National Oceanic and Atmospheric Administration (NOAA), Department of Commerce.

ACTION: Notice of open meeting.

SUMMARY: The Hydrographic Services Review Panel (HSRP) was established by the Secretary of Commerce to advise the Under Secretary of Commerce for Oceans and Atmosphere on matters related to the responsibilities and authorities set forth in section 303 of the Hydrographic Services Improvement Act of 1998, its amendments, and such other appropriate matters that the Under Secretary refers to the Panel for review and advice.

Date and Time: The meeting will be held Wednesday, March 21, 2007, from 8 a.m. to 2:30 p.m., and Thursday, March 22, 2007, from 8 a.m. to 3:30 p.m.

Location: The JW Marriott Hotel, Pennsylvania Avenue; 1331 Pennsylvania Avenue, Washington, DC 20004, Telephone: 202-393-2000. The times and agenda topics are subject to change. Refer to the HSRP Web site listed below for the most current meeting agenda.

FOR FURTHER INFORMATION CONTACT: Captain Steven Barnum, NOAA, Designated Federal Official (DFO), Office of Coast Survey, National Ocean Service (NOS), NOAA (N/CS), 1315 East West Highway, Silver Spring, Maryland 20910; Telephone: 301-713-2770, Fax: 301-713-4019; e-mail: Hydroservices.panel@noaa.gov or visit the NOAA HSRP Web site at http://nauticalcharts.noaa.gov/ocs/hsrp/hsrp.htm.

SUPPLEMENTARY INFORMATION: The meeting will be open to the public and public comment periods will be scheduled at various times throughout the meeting. These comment periods will be part of the final agenda that will be published before the meeting date on the HSRP Web site listed above. Each individual or group making a verbal presentation will be limited to a total time of five (5) minutes. Written comments (at least 30 copies) should be submitted to the DFO by March 13, 2007. Written comments received by the DFO after March 13, 2007, will be distributed to the HSRP, but may not be reviewed before the meeting date. Approximately 25 seats will be available for the public, on a first-come, first-served basis.

Matters To Be Considered: (1) Delivery of the HSRP special report on its most wanted hydrographic services improvements; (2) future trends and challenges for the United States' Marine Transportation System; (3) economic benefits of NOAA's navigation services; (4) re-authorization of the Hydrographic Services Improvement Act; (5) briefings on major NOAA initiatives; and (6) public statements.

Dated: February 21, 2007.
Captain Steven Barnum,
Director, Office of Coast Survey, National Ocean Service, National Oceanic and Atmospheric Administration.

[FR Doc. E7-3271 Filed 2-26-07; 8:45 am]

BILLING CODE 3510-JE-P